DEPARTMENT OF TRANSPORTATION

Federal Railroad Administration

[Docket Number FRA-1999-6252]

CSX Transportation, Inc.; Cancellation of Public Hearing

On January 21, 2000, the Federal Railroad Administration (FRA) published a notice in the Federal Register (65 FR 3529) announcing that a public hearing will be held on February 23, 2000, based upon CSX Transportation, Inc.'s (CSXT) request to obtain a temporary waiver of compliance from certain provisions of the Railroad Locomotive Safety Standards, title 49, Code of Federal Regulations (CFR), part 229, CSXT has requested that the public hearing be postponed for a period of at least 30 days in order to provide time for all interested parties to resolve differences regarding the petition. FRA is therefore canceling the February 23 hearing.

All parties expressing an interest in this proceeding have been notified of this request and have concurred in this action. Depending on the results of discussions among the interested parties, a hearing may or may not be scheduled in the future. If a hearing is rescheduled, a notice will be published in the Federal Register.

Issued in Washington, DC on February 18, 2000.
Michael T. Haley,
Deputy Chief Counsel, Federal Railroad Administration.

[FR Doc. 00-4348 Filed 2-22-00; 8:45 am]

BILLING CODE 4910-06-P